ENVIRONMENTAL PROTECTION AGENCY

40 CFR Part 52

[CA 039-PSD; FRL-7053-3]

Notice of Prevention of Significant Deterioration Final Determination for Metcalf Energy Center

AGENCY: Environmental Protection Agency.

ACTION: Notice of final action.

SUMMARY: The purpose of this document is to announce that, on August 10, 2001, the U.S. Environmental Protection Agency (EPA) Environmental Appeals Board (“Board”) dismissed the petition for review filed by the City of Morgan Hill, Santa Teresa Citizen Action Group, Demand Clean Air, and Californians for Renewable Energy, Inc. of a permit issued to Metcalf Energy Center (MEC) by the Bay Area Air Quality Management District (BAAQMD or “District”) pursuant to the Prevention of Significant Deterioration of Air Quality (PSD) regulations under 40 CFR 52.21. This document also announces that a final PSD permit has been issued to MEC by the BAAQMD pursuant to the terms and conditions of the District's delegation of authority from the U.S. EPA under 40 CFR 52.21(u).

DATES: The effective date for the Board's decision is August 10, 2001.

FOR FURTHER INFORMATION CONTACT: David Wampler, Permits Office (AIR3), Air Division, U.S. EPA Region IX, 75 Hawthorne Street, San Francisco, CA 94105, (415) 744-1259.

SUPPLEMENTARY INFORMATION: On May 4, 2001, the District issued a final PSD permit to MEC for the construction of a new electricity generating plant in San Jose, California. The PSD permit was issued pursuant to 40 CFR 52.21, the terms and conditions of the District's delegation of authority from the U.S. EPA under 40 CFR 52.21(u), and section 7 of the federal Endangered Species Act. Subsequent to the issuance of the PSD Permit, the Petitioners filed petitions for review of the PSD Permit with the Board on June 18, 2001. On August 10, 2001, the Board denied review of the petition because Petitioners failed to show clear error or other reason for the Board to grant review with respect to: (1) The District's BACT determinations for NOX and CO (2.5 ppm averaged over 1 hour and 6 ppm averaged over 3 hours, respectively); (2) the District's treatment of collateral issues, including an ammonia slip limit of 5 ppm, possible formation of secondary particulate matter, and the potential for accidental releases of ammonia during transport and storage; (3) the District's failure to reopen the public comment period to allow public comment on a supplemental BACT analysis that was submitted after the closure of the original public comment period; (4) the District's failure to respond to certain comments that do not rise to the level necessary to justify a remand; (5) the District's bifurcation of the PSD Permit and the Final Determination of Compliance (a licensing document issued by the California Energy Commission); and (6) miscellaneous other issues including the Bay Area's ozone attainment plan, meteorological data, the Endangered Species Act, state laws, air toxics, and environmental justice. For a complete discussion of the EAB's decision, see In re: Metcalf Energy Center, PSD Appeal Nos. 01-07 and 01-08.

Pursuant to 40 CFR 124.19(f)(1), for purposes of judicial review, final Agency action occurs when a final PSD permit is issued and Agency review procedures are exhausted. This document is being published pursuant to 40 CFR 124.19(f)(2), which requires notice of any final agency action regarding a permit to be published in the Federal Register. This document being published today in the Federal Register constitutes notice of the final Agency action denying review of the PSD permit and, consequently, notice of the District's issuance of final PSD permit No. 99-AFC-3 to Metcalf Energy Center on May 4, 2001.

The proposed power plant, located near San Jose, California, will have a nominal electrical output of 600 MW and will be fired on natural gas. The proposed facility is subject to PSD for Nitrogen Oxides (NOX), Carbon Monoxide (CO), Sulfur Dioxide (SO2), and Particulate Matter (PM10). The permit includes the following Best Available Control Technology (BACT) emission limits: NOX at 2.5 ppmvd (based on 1-hour averaging at 15% O2); 6 ppmvd CO (based on 3-hour averaging at 15% O2); SO at 1.28 pounds per hour or 0.0006 lb/MM BTU of natural gas fired; and PM10 at 12 pounds per hour or 0.00565 lb/MM BTU of natural gas fired when duct burners are in operation. The BACT requirements include use of Selective Catalytic Reduction (SCR) for the control of NOX emissions and a combination of good combustion control and natural gas for the control of CO and PM10 emissions. Continuous emission monitoring is required for NOX and CO. The facility is also subject to New Source Performance Standards, subparts AA and GG, and the Acid Rain program under title IV of the Clean Air Act.

If available, judicial review of these determinations under section 307(b)(1) of the CAA may be sought only by the filing of a petition for review in the United States Court of Appeals for the appropriate circuit within 60 days from the date on which this document is published in the Federal Register. Under section 307(b)(2) of this Act, this determination shall not be subject to later judicial review in any civil or criminal proceedings for enforcement.

Dated: August 20, 2001.
Jack P. Broadbent,
Director, Air Division, Region IX.

[FR Doc. 01-23000 Filed 9-12-01; 8:45 am]

BILLING CODE 6560-50-P